DEPARTMENT OF COMMERCE

International Trade Administration

Initiation of Antidumping and Countervailing Duty Administrative Reviews and Deferral of Administrative Review

AGENCY: Import Administration, International Trade Administration, Department of Commerce.

SUMMARY: The Department of Commerce (the Department) has received requests to conduct administrative reviews of various antidumping and countervailing duty orders and findings with September anniversary dates. In accordance with the Department's regulations, we are initiating those administrative reviews. The Department also received a request to defer the initiation of an administrative review for one antidumping duty order.

EFFECTIVE DATE: October 29, 2008.

FOR FURTHER INFORMATION CONTACT: Sheila E. Forbes, Office of AD/CVD Operations, Customs Unit, Import Administration, International Trade Administration, U.S. Department of Commerce, 14th Street and Constitution Avenue, NW, Washington, DC 20230, telephone: (202) 482-4697.

SUPPLEMENTARY INFORMATION:

Background

The Department has received timely requests, in accordance with 19 CFR 351.213(b) (2007), for administrative reviews of various antidumping and countervailing duty orders and findings with September anniversary dates. The Department also received a request in accordance with 19 CFR 351.213(c) to defer for one year the initiation of the August 1, 2008 through July 31, 2008, antidumping duty administrative review of the antidumping duty order on Floor-Standing Metal-Top Ironing Tables from the People's Republic of China.

Notice of No Sales

Under 19 CFR 351.213(d)(3), the Department may rescind a review where there are no exports, sales, or entries of subject merchandise during the respective period of review listed below. If a producer or exporter named in this notice of initiation had no exports, sales, or entries during the period of review, it should notify the Department within 30 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (the Act). Six copies of the submission should be submitted to the Assistant Secretary for Import Administration, International Trade Administration, Room 1870, U.S. Department of Commerce, 14th Street & Constitution Avenue, NW, Washington, DC 20230. Further, in accordance with 19 CFR 351.303(f)(1)(i), a copy of each request must be served on every party on the Department's service list.

Respondent Selection

In the event the Department limits the number of respondents for individual examination for administrative reviews, the Department intends to select respondents based on U.S. Customs and Border Protection (CBP) data for U.S. imports during the period of review (POR). We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991) (Sparklers), as amplified by Final Determination of Sales at Less Than Fair Value: Silicon Carbide from the People's Republic of China, 59 FR 22585 (May 2,1994) (Silicon Carbide).

In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's website at http://www.trade.gov/ia on the date of publication of this Federal Register. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application.

The Separate Rate Status Application will be available on the Department's website at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

INITIATION OF REVIEWS:

In accordance with sections 19 CFR 351.221(c)(1)(i), we are initiating administrative reviews of the following antidumping and countervailing duty orders and findings. We intend

to issue the final results of these reviews not later than September 30, 2009. Also, in accordance with 19 CFR 351.213(c) we are deferring for one year the initiation of the August 1, 2007 through July 31, 2008 administrative review of the antidumping duty order on Floor-Standing Metal-Top Ironing Tables from the People's Republic of China (A-570-888) with respect to one exporter.

Antidumping Duty Proceedings | Period to be Reviewed
INDIA: Certain Lined Paper Products
A-533-843 | 9/1/07 - 8/31/08
Agility Logistics Pvt. Ltd.
Blue Bird India Ltd.
Ceal Shipping Logistics Pvt. Ltd.
Cello International Pvt. Ltd.
Corporate Stationary Pvt. Ltd.
Creative Divya
Exel India Pvt. Ltd.
FFI International
Global Art India Inc.
International Greetings Pvt. Ltd.
Karim General Handmade Paper DIAR
Kejriwal Paper Limited
M/S Super ImpEx
Magic International
Marigold ExIm Pvt. Ltd.
Marisa International
Navneet Publications (India) Ltd.
Pentagon Waterlines Pvt. Ltd.
Pioneer Stationery Pvt. Ltd.
Rajvansh International
Ria ImpEx Pvt. Ltd.
Riddhi Enterprises
SAB International
TKS Overseas
Unlimited Accessories Worldwide
V. Joshi Co.
THE PEOPLE'S REPUBLIC OF CHINA: Certain Lined Paper Products¹
A-570-901 | 9/1/07 - 8/31/08
Watanabe Group (consisting of the following companies):
Watanabe Paper Products (Shanghai) Co., Ltd.
Watanabe Paper Products (Linqing) Co., Ltd.
Hotrock Stationery (Shenzhen) Co., Ltd.
Shanghai Lian Li Paper Products Co., Ltd.
THE PEOPLE'S REPUBLIC OF CHINA: Freshwater Crawfish Tail Meat²
A-570-848 | 9/1/07 - 8/31/08
Shanghai Now Again International Trading Co., Ltd.
Xiping Opeck Food Co., Ltd.
Yancheng Hi-King Agriculture Developing Co., Ltd.
Countervailing Duty Proceedings
INDIA: Certain Lined Paper Products
C-533-844 | 1/1/07 - 12/31/07
Blue Bird India Ltd.
Navneet Publications (India) Ltd.
Suspension Agreements
None.
Deferral of Initiation of Administrative Review
PEOPLE'S REPUBLIC OF CHINA: Floor-Standing Metal-Top Ironing Tables
A-570-888 | 8/1/07 - 7/31/08
Since Hardware (Guangzhou) Co., Ltd.³
¹ If one of the above named companies does not qualify for a separate rate, all other exporters of certain lined paper products from the People's Republic of China who have not qualified for a separate rate are deemed to be covered by this review as part of the single PRC entity of which the named exporters are a part.
² If one of the above named companies does not qualify for a separate rate, all other exporters of freshwater crawfish tail meat from the People's Republic of China who have not qualified for a separate rate are deemed to be covered by this review as part of the single PRC entity of which the named exporters are a part.
³ In the initiation notice that published on 09/30/2008 (73 FR 56795), we inadvertently overlooked Since Hardware's request for deferral of initiation for the 2007-2008 administrative review. We hereby correct this oversight and are deferring the initiation of this review, pursuant to 19 CFR 351.213(c).

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Act, (19 USC 1675(a)) and 19 CFR 351.221(c)(1)(I).

Dated: October 23, 2008.
Stephen J. Claeys,
Deputy Assistant Secretary for Import Administration.

[FR Doc. E8-25828 Filed 10-28-08; 8:45 am]

BILLING CODE 3510-DS-S